DEPARTMENT OF JUSTICE

Antitrust Division

Notice Pursuant to the National Cooperative Research and Production Act of 1993—Petrotechnical Open Software Corporation (“POSC”)

Correction

Notice Document 02-15240, relating to notice pursuant to the National Cooperative Research and Production Act of 1993 for Petrotechnical Open Software Corporation (“POSC”), appearing on page 41484 in the issue of Tuesday, June 18, 2002, in the first column is retracted.

Constance K. Robinson,
Director of Operations, Antitrust Division.

[FR Doc. 02-20410 Filed 8-12-02; 8:45 am]

BILLING CODE 4410-11-M